DEPARTMENT OF DEFENSE

Office of the Secretary

[Transmittal No. 23-48]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-48, Policy Justification, and Sensitivity of Technology.

Dated: October 24, 2024.
Aaron T. Siegel,
Alternate OSD Federal Register Liaison Officer, Department of Defense.

BILLING CODE 6001-FR-P

BILLING CODE 6001-FR-P

Transmittal No. 23-48

Notice of Proposed Issuance of Letter of Offer Pursuant to Section 36(b)(1) of the Arms Export Control Act, as amended

(i) Prospective Purchaser: Government of Poland

(ii) Total Estimated Value:

Major Defense Equipment * | $ 7.5 billion
Other | $ 4.5 billion
TOTAL | $12.0 billion

Funding Source: National Funds

(iii) Description and Quantity or Quantities of Articles or Services under Consideration for Purchase:

Major Defense Equipment (MDE):

Ninety-six (96) AH-64E Apache Attack Helicopters

Two hundred ten (210) T700-GE 701D Engines (192 installed, 18 spares)

Ninety-seven (97) AN/ASQ-170 Modernized Target Acquisition and Designation Sight/AN/AAR-11 Modernized Pilot Night Vision Sensors (M-TADS/PNVS) (96 installed, 1 spare)

Thirty-seven (37) AN/APG-78 Fire Control Radars (FCR) Mast Mounted Assembly (MMA) (36 installed, 1 spare)

Thirty-seven (37) Longbow Fire Control Radar (FCR) Radar Electronic Units (REU), (36 installed, 1 spare)

Ninety-six (96) AN/APR-48B Modernized Radar Frequency Interferometers (MRFI)

One hundred two (102) AN/AAR-57 Common Missile Warning Systems (CMWS) (96 installed, 6 spares)

Two hundred four (204) AN/ARC-231A, with RT-1987 Receivers Transmitters, Very High Frequency/Ultra High Frequency (VHF/UHF) Radios (192 installed, 12 spares)

One thousand eight hundred forty-four (1,844) AGM-114R2 Hellfire Missiles

Ninety-six (96) M36E8 Hellfire Captive Air Training Missiles (CATM)

Four hundred sixty (460) AGM-179A Joint Air-to-Ground Missiles (JAGM)

Five hundred eight (508) Stinger 92K Block I Missiles

Seven thousand six hundred fifty (7,650) WGU-59/B Advanced Precision Kill Weapon System II (APKWS-II) Guidance Sections (GS)

Non-MDE:

Also included are Radar Signal Detecting Sets; Laser Detecting Sets; Identification Friend or Foe (IFF) transponders; Improved Data Modems; Small Tactical Terminals; Improved Countermeasure Dispensing Systems (ICMD); Automatic Direction Finders; Doppler Radar Velocity Sensors; Radar Altimeter Common Cores (RACC); Tactical Air Navigation Set (TACAN); Global Positioning System (GPS) receivers; Simple Key Loader; Advanced Weapon System Automatic Machine Guns; rocket launchers; missile launchers; rockets; ammunition; Manned-Unmanned Teaming (MUMT) Unmanned Aerial System (UAS) Receiver; MUMT Air-Air-Ground kits; training devices; communication systems; helmets; simulators; generators; aircrew survivability equipment; transportation and organization equipment; spare and repair parts; support equipment; tools and test equipment; technical data and publications; personnel training and training equipment; U.S. Government and contractor technical assistance; technical and logistics support services; and other related elements of program and logistical support.

(iv) Military Department: Army (PL-B-UEH)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 21, 2023

* As defined in Section 47(6) of the Arms Export Control Act.

POLICY JUSTIFICATION

Poland—AH-64E Apache Helicopters

The Government of Poland has requested to buy ninety-six (96) AH-64E Apache Attack Helicopters; two hundred ten (210) T700-GE 701D engines (192 installed, 18 spares); ninety-seven (97) AN/ASQ-170 Modernized Target Acquisition and Designation Sight/AN/AAR-11 Modernized Pilot Night Vision Sensors (M-TADS/PNVS) (96 installed, 1 spare); thirty-seven (37) AN/APG-78 Fire Control Radars (FCR) Mast Mounted Assembly (MMA) (36 installed, 1 spare); thirty-seven (37) Longbow Fire Control Radar (FCR) Radar Electronic Units (REU), (36 installed, 1 spare); ninety-six (96) AN/APR-48B Modernized Radar Frequency Interferometers (MRFI); one hundred two (102) AN/AAR-57 Common Missile Warning Systems (CMWS) (96 installed, 6 spares); two hundred four (204) AN/ARC-231A, with RT-1987 Receiver Transmitters, Very High Frequency/Ultra High Frequency (VHF/UHF) radios (192 installed, 12 spares); one thousand eight hundred forty-four (1,844) AGM-114R2 Hellfire Missiles; ninety-six (96) M36E8 Hellfire Captive Air Training Missiles (CATM); four hundred sixty (460) AGM-179A Joint Air-to-Ground Missiles (JAGM); five hundred eight (508) Stinger 92K Block I Missiles; and seven thousand six hundred fifty (7,650) WGU-59/B Advanced Precision Kill Weapon System II (APKWS-II) Guidance Sections (GS). Also included are Radar Signal Detecting Sets; Laser Detecting Sets; Identification Friend or Foe (IFF) transponders; Improved Data Modems; Small Tactical Terminals; Improved Countermeasure Dispensing Systems (ICMD); Automatic Direction Finders; Doppler Radar Velocity Sensors; Radar Altimeter Common Cores (RACC); Tactical Air Navigation Set (TACAN); Global Positioning System (GPS) receivers; Simple Key Loader; Advanced Weapon System Automatic Machine Guns; rocket launchers; missile launchers; rockets; ammunition; Manned-Unmanned Teaming (MUMT) Unmanned Aerial System (UAS) Receiver; MUMT Air-Air-Ground kits; training devices; communication systems; helmets; simulators; generators; aircrew survivability equipment; transportation and organization equipment; spare and repair parts; support equipment; tools and test equipment; technical data and publications; personnel training and training equipment; U.S. Government and contractor technical assistance; technical and logistics support services; and other related elements of program and logistical support. The estimated total cost is $12.0 billion.

This proposed sale will support the foreign policy goals and national security objectives of the United States by improving the security of a North Atlantic Treaty Organization (NATO) Ally that is a force for political stability and economic progress in Europe.

The proposed sale will improve Poland's capability to meet current and future threats by providing a credible force that is capable of deterring adversaries and participating in NATO operations. Poland will have no difficulty absorbing this equipment into its armed forces.

The proposed sale of this equipment and support will not alter the basic military balance in the region.

The principal contractors will be Boeing, Mesa, AZ, and Lockheed Martin, Orlando, FL. The purchaser has requested offsets. Any offset agreement will be defined in negotiations between the purchaser and the contractor(s).

Implementation of this proposed sale will require temporary duty travel of five to eight U.S. Government and contractor representatives to Poland for a duration of up to five years to support equipment fielding and training.

There will be no adverse impact on U.S. defense readiness as a result of this proposed sale.

Transmittal No. 23-48

Notice of Proposed Issuance of Letter of Offer Pursuant to Section 36(b)(1) of the Arms Export Control Act

Annex

Item No. vii

(vii) Sensitivity of Technology:

1. The AH-64E Apache Attack Helicopter is the Army's advanced attack helicopter, equipped for performing close air support, anti-armor, and armed reconnaissance missions. The aircraft contains the following communications and target identification equipment, navigation equipment, aircraft survivability equipment, displays, and sensors:

a. The AN/ARC-231A (RT 1987) Very High Frequency/Ultra High Frequency (VHF/UHF) radio is a multi-mode software-defined radio providing line of sight VHF/UHF secure and non-secure voice and data communications in the 30.000-941.000 MHz frequency range and Satellite Communications (SATCOM) beyond line of sight secure and non-secure voice and data, including Demand Assigned Multiple ACCESS (DAMA) communications in the 240-320 MHz frequency range on manned and unmanned aviation platforms. ARC-231A (RT 1987) includes improved Type-1 cryptographic algorithm and processing capabilities, Civil Land Mobile Radio, Single Channel Ground and Airborne Radios System (SINCGARS) capabilities, HAVE QUICK (HQ), Second Generation Anti-Jam Tactical UHF Radio for NATO (SATURN) waveform, 8.33 kHz channel spacing for Global Air-Traffic Management (GATM) compliance, and capability for Mobile User Objective System (MUOS) waveform through possible future hardware and software updates.

b. The AN/APX-123A Identification Friend-or-Foe (IFF) digital transponder set provides pertinent platform information in response to an IFF interrogator. The digital transponder provides cooperative Mark XII IFF capability using full diversity selection, as well as Mode Select (Mode S) capability. In addition, the transponder is capable of interfacing with the aircraft's Traffic Collision and Avoidance System (TCAS). The transponder receives pulsed radio frequency interrogation signals in any of six modes (1, 2, 3/A, S, and 5), decodes the signals, and transmits a pulsecoded reply. The Mark XII IFF operation includes Selective Identification Feature (SIF) Modes 1, 2, 3/A and C, as well as secure cryptographic Mode 5 operational capability.

c. Link 16 Datalink is a military tactical data link network. Link 16 provides aircrews with enhanced situational awareness and the ability to exchange target information to Command and Control (C2) assets via Tactical Digital Information Link-Joint (TADIL-J). Link 16 can provide a range of combat information in near-real time to U.S. and allied combat aircraft and C2 centers. The AH-64E uses the Harris Small Tactical Terminal (STT) KOR-24A to provide Airborne and Maritime/Fixed Station (AMF) Small Airborne Link 16 Terminal (SALT) capability. The STT is the latest generation of small, two-channel, Link 16 and VHF/UHF radio terminals. While in flight, the STT provides simultaneous communication, voice or data, on two key waveforms.

d. The AN/APR-39 Radar Warning Receiver Signal Detecting Set is a system that provides warning of a radar-directed air defense threat and allows for the employment of appropriate countermeasures. This is the 1553 data bus compatible configuration.

e. The AN/AVR-2B Laser Warning Set is a passive laser warning system that receives, processes, and displays threat information on the aircraft's multi-functional display when the system detects lasers illuminating the aircraft.

f. The AAR-57 Common Missile Warning System (CMWS) detects energy emitted by threat missiles in-flight, evaluates potential false alarm emitters in the environment, declares validity of threats, and selects appropriate countermeasures for defeat. The CMWS consists of an Electronic Control Unit (ECU), Electro-Optic Missile Sensors (EOMSs), and Sequencer and Improved Countermeasures Dispenser (ICMD).

g. The AH-64E uses two EAGLE+MMR Embedded Global Positioning System (GPS)/Inertial Navigation Systems (INS) (EGI) with Multi-Mode Receiver. The EAGLE+MMR is a self-contained, all-attitude navigation system with an embedded GPS receiver controlled via MIL-STD-1553B controller and provides output navigation and GPS timing data to support ADS-B out and other platform systems. The EAGLE's EGI unit houses a 24 channel GPS receiver capable of operating in either Standard Positioning Service (SPS) C/A-code (non-encrypted) or Precise Positioning Service (PPS) Y-code (encrypted).

h. The AN/ASQ-170 Modernized Target Acquisition and Designation Sight/AN/AAQ-11 Pilot Night Vision Sensor (MTADS/PNVS) provides day, night, and limited adverse weather target information, as well as night navigation capabilities. The PNVS provides thermal imaging that permits nap-of-the-earth flight to, from, and within the battle area, while MTADS provides the copilot gunner with search, detection, recognition, and designation capabilities by means of Direct View Optics (DVO), television, and Forward Looking Infrared (FLIR) sighting systems that may be used singularly or in combinations.

i. The AN/APR-48B Modernized Radar Frequency Interferometer (M-RFI) is an updated version of the passive radar detection and direction-finding system. It utilizes a detachable User Data Module (UDM) on the M-RFI processor, which contains the Radar Frequency (RF) threat library.

j. The AN/APG-78 Longbow Fire Control Radar (FCR) with Radar Electronics Unit (REU) is an active, low-probability-of-intercept, millimeter wave radar. The active radar is combined with a passive Radar Frequency Interferometer (RFI) mounted on top of the helicopter mast. The FCR Ground Targeting Mode detects, locates, classifies, and prioritizes stationary or moving armored vehicles, tanks, and mobile air defense systems, as well as hovering helicopters and helicopters and fixed-wing aircraft in normal flight. If desired, the radar data can be used to refer targets to the regular electro-optical Modernized Target Acquisition and Designation Sight (MTADS).

k. The Manned-Unmanned Teaming X (MUMT-X) data link system provides cross-platform communication and teaming between Apache, unmanned aerial systems (UAS), and other interoperable aircraft and ground platforms. It provides the ability to display real-time UAS sensor information and MTADs full motion video feeds across MUMT-equipped platforms and ground stations.

l. The M299 Missile Launcher, commonly known as the Longbow Hellfire Launcher (LBHL), is a four-rail launcher designed to carry the complete family of AGM-114 Hellfire Missiles.

m. The AGM-114R Hellfire is a semi-active laser guided missile with a multi-purpose warhead that can engage and defeat both high and heavily armored targets, personnel, bunkers, caves, and urban structures.

n. The JAGM-179A is an Air-to-Ground Missile (AGM) consisting of the Hellfire Romeo (AGM-114R) back-end (i.e., propulsion, warhead, and control sections) mated to a newly designed dual-mode guidance section (GS). The dual-mode GS is a combination of Millimeter Wave (MMW) and Semi-Active Laser (SAL) sensors co-axially aligned on a steerable gimbal. The combination of MMW and SAL sensors provide improved Precision Point (PP) and Fire-and-Forget (FF) capabilities in a single munition. This combination allows for targeting of fast moving and stationary targets in countermeasure and intensive battlefield environments, and in low cloud ceiling and adverse weather. Firing modes include Lock-On Before Launch (LOBL) and Lock-On After Launch (LOAL). Engagement modes include Point Designation (PD)—SAL only, Target Designation (PD)—SAL initiated with MMW engagement completion, Active Fire & Forget/Laser Queuing (AFF-LQ)—MMW initiated with SAL override capability, and Active Fire & Forget (AFF)—MMW only. Hosting platforms include select rotary-wing and fixed-wing aircraft, wheeled or tracked vehicles, ground-based pedestal launchers, and patrol boats. Targets include tactical armor, boats, bunkers, buildings, caves, personnel in the open, rotary-wing and slow fixed-wing aircraft, UAS, and fast-moving non-tactical vehicles. The MMW is capable of hitting low radar cross section targets.

o. The Hellfire M36E9 Captive Air Training Missile (CATM) is a flight-training missile that consists of a functional guidance section coupled to an inert missile bus. It functions like a tactical missile during captive carry on the aircraft, absent launch capability, making it suitable for training the aircrew in simulated Hellfire Missile target acquisition and lock.

p. The M261 2.75 Inch Rocket Launcher is a nineteen tube, three zone rocket launcher utilized on heavy attack aircraft. It fires the Hydra 70 2.75-inch rocket, an unguided, fin-stabilized air-to-ground rocket that can utilize a variety of warhead and fuze combinations to achieve a range of effects.

q. The AGR-20A Advanced Precision Kill Weapons System (APWKS) is a conversion of the 2.75-inch Hydra 70 rocket which adds a laser guidance kit to enable precision targeting.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to Poland.

[FR Doc. 2024-25114 Filed 10-28-24; 8:45 am]

BILLING CODE 6001-FR-P